FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 16, 2010.

A. Federal Reserve Bank of Chicago (Colette A. Fried, Assistant Vice President) 230 South LaSalle Street, Chicago, Illinois 60690-1414:

1. John V. Tippmann, Sr., as an individual; John V. Tippmann, Sr.; John and Helen McCarthy; Richard and Sally Ley; John Tippmann, Jr.; Patrick Tippmann; and Brian and Jennifer Backstrom, all of Fort Wayne, Indiana, as a group acting in concert; to acquire voting shares of Tower Financial Corporation, and thereby indirectly acquire voting shares of Tower Bank & Trust Company, both of Fort Wayne, Indiana.

2. Keith E. Busse, as an individual; Keith E. Busse; Busse Family Investment Company, LLC; Aaron R. Busse; Dawn R. Zimmerman; Michael S. Busse; Angie S. Weidler; Christopher K. Busse, as co-managers of the Busse Family Investment Company LLC, all of Fort Wayne, Indiana, as a group acting in concert; to acquire voting shares of Tower Financial Corporation, and thereby indirectly acquire voting shares of Tower Bank & Trust Company, both of Fort Wayne, Indiana.

B. Federal Reserve Bank of Minneapolis (Jacqueline G. King, Community Affairs Officer) 90 Hennepin Avenue, Minneapolis, Minnesota 55480-0291:

1. Margaret Morten, Eden Prairie, Minnesota; to acquire and retain control of Vision Bancshares, Inc., and thereby indirectly acquire and retain control of Vision Bank, both of Saint Louis Park, Minnesota.

Board of Governors of the Federal Reserve System, June 28, 2010.
Robert deV. Frierson,
Deputy Secretary of the Board.

[FR Doc. 2010-16032 Filed 6-30-10; 8:45 am]

BILLING CODE 6210-01-S